SMALL BUSINESS ADMINISTRATION

[Declaration of Disaster #3426]

State of Arizona

As a result of the President's major disaster declaration on June 25, 2002, I find that Apache and Navajo Counties and the Fort Apache Indian Reservation in the State of Arizona constitute a disaster area due to damages caused by wildfires occurring on June 18, 2002 and continuing. Applications for loans for physical damage as a result of this disaster may be filed until the close of business on August 24, 2002 and for economic injury until the close of business on March 25, 2003 at the address listed below or other locally announced locations:

U.S. Small Business Administration, Disaster Area 4 Office, P.O. Box 13795, Sacramento, CA 95853-4795.

In addition, applications for economic injury loans from small businesses located in the following contiguous counties may be filed until the specified date at the above location: Coconino, Gila, Graham and Greenlee Counties in the State of Arizona; Montezuma County in the State of Colorado; Catron, Cibola, McKinley and San Juan Counties in the State of New Mexico; and San Juan County in the State of Utah.

The interest rates are:

| Percent
For Physical Damage: | Percent
Homeowners With Credit Available Elsewhere | 6.750
Homeowners Without Credit Available Elsewhere | 3.375
Businesses With Credit Available Elsewhere | 7.000
Businesses and Non-Profit Organizations Without Credit Available Elsewhere | 3.500
Others (Including Non-Profit Organizations) With Credit Available Elsewhere | 6.375
For Economic Injury: Businesses and Small Agricultural Cooperatives Without Credit Available Elsewhere | 3.500

The number assigned to this disaster for physical damage is 342605. For economic injury the number is 9Q3200 for Arizona; 9Q3300 for Colorado; 9Q3400 for New Mexico; and 9Q3500 for Utah.

(Catalog of Federal Domestic Assistance Program Nos. 59002 and 59008)
Dated: June 25, 2002.
Herbert L. Mitchell,
Associate Administrator, for Disaster Assistance.

[FR Doc. 02-16522 Filed 6-28-02; 8:45 am]

BILLING CODE 8025-01-P